ENVIRONMENTAL PROTECTION AGENCY

40 CFR Parts 52 and 81

[Docket-AK-04-002b; FRL-7792-4]

Approval and Promulgation of State Implementation Plans: State of Alaska; Fairbanks Carbon Monoxide Nonattainment Area; Designation of Areas for Air Quality Planning Purposes

AGENCY: Environmental Protection Agency (EPA).

ACTION: Proposed rule.

SUMMARY: On June 21, 2004, the State of Alaska submitted a carbon monoxide (CO) maintenance plan for the Fairbanks CO nonattainment area to EPA for approval. The State concurrently requested that EPA redesignate the Fairbanks CO nonattainment area to attainment for the National Ambient Air Quality Standard (NAAQS) for CO. In this action, EPA is proposing approval of the maintenance plan and redesignation of the Anchorage CO nonattainment area to attainment.

DATES: Written comments must be received by August 26, 2004.

ADDRESSES: Comments may be mailed to Connie L. Robinson, Environmental Protection Agency, Office of Air, Waste and Toxics (OAQ-107), EPA Region 10, 1200 Sixth Ave., Seattle, Washington 98101. Comments may also be submitted electronically or through hand delivery/courier. Please follow the detailed instructions in the Addresses section of the Direct Final Rule which is located in the Rules section of this Federal Register. To submit comments, please follow the detailed instructions described in the Direct Final Rule, SUPPLEMENTARY INFORMATION section, Part I, General Information.

Copies of the documents relevant to this action are available for public inspection between 8 a.m. and 4 p.m., Monday through Friday at the following office: United States Environmental Protection Agency, Region 10, Office of Air, Waste and Toxics, 1200 Sixth Ave., Seattle, WA 98101.

FOR FURTHER INFORMATION CONTACT: Connie L. Robinson, EPA, Region 10, Office of Air, Waste, and Toxics (OAQ-107), Seattle, Washington, (206) 553-1086.

SUPPLEMENTARY INFORMATION: In the Final Rules section of this Federal Register, the EPA is approving the State's SIP submittal as a direct final rule without prior proposal because the Agency views this as a noncontroversial submittal and anticipates no adverse comments. If no adverse comments are received in response to this action, no further activity is contemplated.

If the EPA receives adverse comments, the direct final rule will be withdrawn and all public comments received will be addressed in a subsequent final rule based on this proposed rule. The EPA will not institute a second comment period. Any parties interested in commenting on this action should do so at this time. Please note that if we receive adverse comment on an amendment, paragraph, or section of this rule and if that provision may be severed from the remainder of the rule, we may adopt as final those provisions of the rule that are not the subject of an adverse comment.

For additional information, see the Direct Final rule which is located in the Rules section of this Federal Register.

Dated: July 19, 2004.
L. John Iani,
Regional Administrator, Region 10.

[FR Doc. 04-17061 Filed 7-26-04; 8:45 am]

BILLING CODE 6560-50-P